DEPARTMENT OF THE INTERIOR

Fish and Wildlife Service

[FWS-HQ-IA-2014-0019; FXIA16710900000-134-FF09A00000]

Advisory Council on Wildlife Trafficking; Meeting

AGENCY: Fish and Wildlife Service, Interior.

ACTION: Notice of meeting.

SUMMARY: We, the U.S. Fish and Wildlife Service (Service), announce a public meeting of the Advisory Council on Wildlife Trafficking (Council). The Council's purpose is to provide expertise and support to the Presidential Task Force on Wildlife Trafficking. You may attend the meeting in person, or you may participate via telephone. At this time, we are inviting submissions of questions and information for consideration during the meeting.

DATES: Meeting: The meeting will be held on Friday, October 17, 2014, from 9 a.m. to 1 p.m. Eastern Time.

Registering to Attend the On-Site Meeting: In order to attend the meeting on site, you must register by close of business on October 3, 2014. (You do not need to register in order to listen via phone.) Please submit your name, email address, and phone number to Mr. Cade London to complete the registration process (see FOR FURTHER INFORMATION CONTACT). Because there is limited seating available, registrations will be taken on a first-come, first-served basis. Members of the public requesting reasonable accommodations, such as hearing interpreters, must contact Mr. London, in writing (preferably by email), no later than October 3, 2014.

Submitting Questions or Information: If you wish to provide us with questions and information to be considered during the meeting, your material must be received or postmarked on or before October 10, 2014. Comments submitted electronically using the Federal eRulemaking Portal (see ADDRESSES section) must be received by 11:59 p.m. Eastern Time on October 10, 2014.

Making an Oral Presentation at the Meeting: If you wish to make an oral presentation at the meeting (in person or by phone), contact Mr. London no later than October 3, 2014 (see FOR FURTHER INFORMATION CONTACT). For more information, see Making an Oral Presentation under SUPPLEMENTARY INFORMATION.

ADDRESSES: Meeting Location: The meeting will be held in the U.S. Department of the Interior, South Interior Building Auditorium, 1951 Constitution Avenue NW., Washington, DC 20240.

Meeting Call-In Numbers: Members of the public unable to attend the meeting in person may call in at 888-603-9751 (toll free) or 1-517-623-4156 (toll).

Submitting Questions or Information: You may submit questions or information for consideration during the meeting by one of the following methods:

1. Electronically: Go to the Federal eRulemaking Portal: http://www.regulations.gov. In the Search box, enter FWS-HQ-IA-2014-0019. Then click on the “Search” button. You may submit questions or information by clicking on “Comment Now!”

2. By hard copy: Submit by U.S. mail or hand-delivery to: Public Comments Processing, Attn: FWS-HQ-IA-2014-0019; Division of Policy and Directives Management; MS: BPHC, U.S. Fish and Wildlife Service; 5275 Leesburg Pike, Falls Church, VA 22041-3803.

We will not accept email or faxes. We request that you send comments only by the methods described above. We will post all comments on http://www.regulations.gov. This generally means that we will post any personal information you provide us (see the Submitting Public Comments section below for more information).

Reviewing Comments Received by the Service: See Reviewing Public Comments in the SUPPLEMENTARY INFORMATION section.

FOR FURTHER INFORMATION CONTACT: Mr. Cade London, Special Assistant, International Affairs, U.S. Fish and Wildlife Service, by email at cade_london@fws.gov (preferable method of contact); by U.S. mail at U.S. Fish and Wildlife Service; 5275 Leesburg Pike, MS: IA; Falls Church, VA 22041-3803; by telephone at (703) 358-2584; or by fax at (703) 358-2276.

SUPPLEMENTARY INFORMATION: In accordance with the requirements of the Federal Advisory Committee Act (5 U.S.C. App.), we announce that the Advisory Council on Wildlife Trafficking (Council) will hold a meeting to discuss the implementation of the National Strategy for Combating Wildlife Trafficking, and other Council business as appropriate. The Council's purpose is to provide expertise and support to the Presidential Task Force on Wildlife Trafficking.

You may attend the meeting in person, or you may participate via telephone. At this time, we are inviting submissions of questions and information for consideration during the meeting.

Background

Pursuant to Executive Order 13648, the Advisory Council on Wildlife Trafficking was formed on August 30, 2013, to advise the Presidential Task Force on Wildlife Trafficking, through the Secretary of the Interior, on national strategies to combat wildlife trafficking, including but not limited to:

1. Effective support for anti-poaching activities;

2. Coordinating regional law enforcement efforts;

3. Developing and supporting effective legal enforcement mechanisms; and

4. Developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

1. Measures to combat wildlife trafficking, including but not limited to legal frameworks, communication, enforcement, and public/private partnerships;

2. Administrative topics; and

3. Public comment and response.

The Advisory Council has been focusing its primary efforts to date on addressing the current wildlife trafficking crisis affecting elephants and rhinos, which are being killed in record numbers for their ivory and rhino horn, respectfully. Because the President's Executive Order to Combat Illegal Wildlife Trafficking has a broader focus on species that are being affected by illegal wildlife trafficking, the Council intends to devote a significant portion of its upcoming public meeting to gather information on other protected species—besides elephants and rhinos—that are facing potential extinction risk or other severe threats due to illegal wildlife trafficking. To facilitate the gathering of this information, the Council would like to obtain testimony from experts who are representing organizations that are engaged in wildlife protection activities at the upcoming meeting on October 17. Testimony can include a written statement of reasonable length, and a request to make an oral presentation of approximately 5 minutes to the Council (and no more than 7 minutes), which identifies and discusses additional species that they believe merit additional attention by the Council and the Task Force, and any specific recommendations regarding steps that the Task Force and Advisory Council should consider taking to protect such species. Experts representing relevant organizations who wish to participate in the upcoming meeting, and who want to make an oral presentation in person or by phone, should contact Mr. Cade London (FOR FURTHER INFORMATION CONTACT) no later than the date given in the DATES section for Making an Oral Presentation at the Meeting. Following the presentations by experts, members of the public also will have an opportunity to be heard for 3 minutes. Individuals requesting general public speaking slots should again contact Mr. Cade London (FOR FURTHER INFORMATION CONTACT) no later than the date given in the DATES section for Making an Oral Presentation at the Meeting.

The final agenda will be posted on the Internet at http://www.fws.gov/international/advisory-council-wildlife-trafficking/, as well as at http://www.regulations.gov.

Making an Oral Presentation

Members of the public who want to make an oral presentation in person or by telephone at the meeting will be prompted during the public comment section of the meeting to provide their presentation and/or questions. If you want to make an oral presentation in person or by phone, contact Mr. Cade London (FOR FURTHER INFORMATION CONTACT) no later than the date given in the DATES section for Making an Oral Presentation at the Meeting.

Registered speakers who wish to expand on their oral statements, or those who wanted to speak but could not be accommodated on the agenda, are invited to submit subsequent written statements to the Council after the meeting. Such written statements must be received by Mr. London, in writing (preferably via email), no later than October 24, 2014.

Submitting Public Comments

You may submit your questions and information by one of the methods listed in ADDRESSES. We request that you send comments by only one of the methods described in ADDRESSES.

If you submit information via the Federal eRulemaking Portal (http://www.regulations.gov), your entire submission—including any personal identifying information—will be posted on the Web site.

If your submission is made via a hardcopy that includes personal identifying information, you may request at the top of your document that we withhold this information from public review. However, we cannot guarantee that we will be able to do so. We will post all hardcopy submissions at http://www.regulations.gov.

Reviewing Public Comments

Comments and materials we receive will be available for public inspection at http://www.regulations.gov. Alternatively, you may view them by appointment during normal business hours at 5275 Leesburg Pike, Falls Church, VA 22041-3803. Please contact Mr. London (see FOR FURTHER INFORMATION CONTACT).

Obtaining Meeting Minutes

Summary minutes of the meeting will be available on the Council Web site at http://www.fws.gov/international/advisory-council-wildlife-trafficking/, as well as at http://www.regulations.gov. Alternatively, you may view them by appointment during normal business hours at 4401 N. Fairfax Drive, Room 110, Arlington, VA 22203. Please contact Mr. London (see FOR FURTHER INFORMATION CONTACT).

Dated: September 17, 2014.
Tina A. Campbell,
Chief, Division of Policy and Directives Management, U.S. Fish and Wildlife Service.

[FR Doc. 2014-22538 Filed 9-22-14; 8:45 am]

BILLING CODE 4310-55-P